DEPARTMENT OF VETERANS AFFAIRS

[OMB Control No. 2900-0823]

Proposed Information Collection (Expanded Access to Non-VA Care Through the Veterans Choice Program) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each extension collection, and allow 60 days for public comment in response to the notice. This notice solicits comments on the information needed for Veterans, Veteran Representatives and health care providers to request reimbursement from the federal government for emergency services at a private institution.

DATES: Written comments and recommendations on the proposed collection of information should be received on or before April 20, 2015.

ADDRESSES: Submit written comments on the collection of information through Federal Docket Management System (FDMS) at www.Regulations.gov; or Audrey Revere, Office of Regulatory and Administrative Affairs, Veterans Health Administration (10B4), Department of Veterans Affairs, 810 Vermont Avenue NW., Washington, DC 20420 or email: Audrey.revere@va.gov. Please refer to “OMB Control No. 2900-0823” in any correspondence. During the comment period, comments may be viewed online through the FDMS.

FOR FURTHER INFORMATION CONTACT: Audrey Revere at (202) 461-5694.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Election to Receive Authorized Non-VA Care and Selection of Provider for the Veterans Choice Program.

OMB Control Number: 2900-0823.

Type of Review: Extension.

Abstract: Section 17.1515 requires eligible veterans to notify VA whether the veteran elects to receive authorized non-VA care through the Veterans Choice Program, be placed on an electronic waiting list, or be scheduled for an appointment with a VA health care provider. Section 17.1515(b)(1) also allows eligible veterans to specify a particular non-VA entity or health care provider, if that entity or provider meets certain requirements.

Affected Public: Individuals or Households,

Estimated Annual Burden: 185,721 burden hours.

Estimated Average Burden per Respondent: 2 minutes.

Frequency of Response: 12.64 times per year.

Estimated Number of Respondents: 440,794 respondents.

Titles: Health-Care Plan Information for the Veterans Choice Program.

OMB Control Number: 2900-0823.

Type of Review: Extension.

Abstract: Section 17.1510(d) requires eligible veterans to submit to VA information about their health-care plan to participate in the Veterans Choice Program.

Affected Public: Individuals or Households.

Estimated Annual Burden: 88,159 burden hours.

Estimated Average Burden per Respondent: 10 minutes.

Frequency of Response: 1.2 times per year.

Estimated Number of Respondents: 440,794 respondents.

Titles: Submission of Medical Record Information under the Veterans Choice Program.

OMB Control Number: 2900-0823.

Type of Review: Extension.

Abstract: Participating eligible entities and providers are required to submit a copy of any medical record related to hospital care or medical services furnished under this Program to an eligible veteran.

Affected Public: Individuals or Households.

Estimated Annual Burden: 464,428 burden hours.

Estimated Average Burden per Respondent: 5 minutes.

Frequency of Response: 29.80 times per year.

Estimated Number of Respondents: 187,000 respondents.

Titles: Submission of Information on Credentials and Licenses by Eligible Entities or Providers.

OMB Control Number: 2900-0823.

Type of Review: Extension.

Abstract: Section 17.1530 requires eligible entities and providers to submit verification that the entity or provider maintains at least the same or similar credentials and licenses as those required of VA's health care providers, as determined by the Secretary.

Affected Public: Individuals or Households.

Estimated Annual Burden: 15,583 burden hours.

Estimated Average Burden per Respondent: 5 minutes.

Frequency of Response: Once annually.

Estimated Number of Respondents: 187,000 respondents.

Dated: February 12, 2015.
By direction of the Secretary.
Crystal Rennie,
Department Clearance Officer, Department of Veterans Affairs.

[FR Doc. 2015-03354 Filed 2-18-15; 8:45 am]

BILLING CODE 8320-01-P